DEPARTMENT OF THE INTERIOR

Bureau of Land Management

[LLORC00000.L58840000.PH0000.LXRSCC990000.15X.HAG 17-0076]

Notice of Public Meeting for the Coastal Oregon Resource Advisory Council

AGENCY: Bureau of Land Management, Interior.

ACTION: Notice of public meeting.

SUMMARY: In accordance with the Federal Land Policy and Management Act and the Federal Advisory Committee Act of 1972, the U.S. Department of the Interior, Bureau of Land Management (BLM) Coastal Oregon Resource Advisory Council (RAC) will meet as indicated below.

DATES: The Coastal Oregon RAC will hold a public meeting Tuesday, March 14, 2017, from 12:30 p.m. to 5:00 p.m. and Wednesday, March 15, 2017 from 8:00 a.m. to 2:00 p.m.

ADDRESSES: The Coastal Oregon RAC will meet at the Coos Bay District Office, 1300 Airport Lane, North Bend, Oregon 97459.

FOR FURTHER INFORMATION CONTACT: Megan Harper, Public Affairs Specialist, BLM Coos Bay District Office, 1300 Airport Lane, North Bend, Oregon 97459, (541) 751-4353, or email m1harper@blm.gov. Persons who use a telecommunications device for the deaf (TDD) may call the Federal Relay Service at 1(800) 877-8339 to contact the above individual during normal business hours. The service is available 24 hours a day, 7 days a week, to leave a message or question with the above individual. You will receive a reply during normal business hours.

SUPPLEMENTARY INFORMATION: The Coastal Oregon RAC consists of 15 members chartered and appointed by the Secretary of the Interior. Members represent diverse perspectives such as commodity, conservation, and other general interests. They provide advice to BLM resource managers regarding management plans and proposed resource actions on public land in coastal Oregon. Tentative agenda items for the March 14 and March 15, 2017, meeting include review and recommendation of projects to fund under Title II of the Secure Rural Schools and Community Self Determination Act, as reauthorized. Any other matters that may reasonably come before the Coastal Oregon RAC may also be addressed.

There will be an opportunity for public comments on March 15, 2017 at 8:30 a.m. Unless otherwise approved by the Coastal Oregon RAC Chair, the public comment period will last no longer than 30 minutes, and each speaker may address the Coastal Oregon RAC for a maximum of 5 minutes. Meeting times and the duration of the public comment period may be extended or altered when the authorized representative considers it necessary to accommodate important business and all who seek to be heard regarding matters before the Coastal Oregon RAC.

Before including your address, phone number, email address, or other personal identifying information in your comments, please be aware that your entire comment—including your personal identifying information—may be made publicly available at any time. While you can ask us in your comment to withhold your personal identifying information from public review, we cannot guarantee that we will be able to do so.

Karla D. Norris,
Coos Bay Assistant District Manager.

[FR Doc. 2017-03445 Filed 2-21-17; 8:45 am]

BILLING CODE 4310-33-P